DEPARTMENT OF TRANSPORTATION

Office of the Secretary of Transportation

[Docket No. DOT-OST-2012-0046]

Notice of Transportation Services' Transition from Paper to Electronic Fare Media

AGENCY: Office of the Secretary, DOT.

ACTION: Notice.

SUMMARY: The U.S. Department of Transportation's Office of Transportation Services (TRANServe), located within the Office of the Assistant Secretary for Administration, has initiated the adoption of a new program distribution methodology for transit benefits. TRANServe has shifted to electronic fare media in specific areas in New York, parts of the National Capitol Region, and parts of the Southeast. TRANServe intends to implement electronic fare media across the United States within the eight TRANServe Geographic Service Areas as it ensures that the implementation in each area will be consistent with applicable statutes and regulations. The implementation of electronic distribution, and a limited paper voucher process, allows for the most effective and efficient mechanism for the qualified transportation fringe benefit.

DATES: TRANServe will consider all comments received on or before April 23, 2012.

ADDRESSES: You may submit comments by the following methods:

• Federal eRulemaking Portal: Go to http://www.regulations.gov to submit or view comments and to view supporting and related materials available electronically.

• Postal Mail/Commercial Delivery: Please send one copy of your comment to Docket No. DOT-OST-2012-0046, DOT/TRANServe, 1200 New Jersey Ave. SE., Washington, DC 20590.

Reading Room (Public Terminal): You may read any comments that we receive on this docket in our reading room (Public Terminal). The reading room is located in room W12-140 of the US DOT 1200 New Jersey Avenue, SW., Washington, DC. Normal reading room hours are 8 a.m. to 4:30 p.m. Monday through Friday, except Federal holidays. To be sure someone is there to help you, please call (202) 366-9826 or (202) 366-9317 before arriving.

Other Information: Additional information about TRANServe is available on the internet at (http://transerve.dot.gov/index.html).

FOR FURTHER INFORMATION CONTACT: Ms. Denise P. Wright, Business Office Manager, 1200 New Jersey Avenue SE., Washington, DC 20590.

SUPPLEMENTARY INFORMATION:

Background

TRANServe provides service to over 250,000 transit benefit participants employed by over 100 federal organizations nationwide. Since the program's inception, TRANServe has distributed the qualified transportation fringe benefit to participating Federal employees via a paper voucher process. To that end, TRANServe has operated a highly sophisticated ordering, inventory and distribution program supported by a complex network of activities, such as statistical forecasting for nationwide distribution, multi-million dollar contract awards, support arrangements for travel and distribution, and an elaborate array of financial analysis for billing participating Federal agencies. In addition to a growing number of participants, many state and local transit authorities have transitioned, or are transitioning, to electronic fare media, compelling the shift from a paper based system (vouchers) to an electronic fare media structure. TRANServe has also experienced rising program costs related to inventory, travel, and infrastructure support, requiring that TRANServe adopt a new distribution method from paper to electronic fare media. As a result, TRANServe is implementing an efficient and effective electronic fare media transition to its participating transit benefit agencies, consistent with statutory requirements in 49 U.S.C. 327, Administrative Working Capital Fund; 26 U.S.C. 132(f), Qualified Transportation Fringe; 31 U.S.C. 3302, Custodians of Money; Federal Employees Clean Air Incentives Act (Pub. L. 103-172); and Executive Order 13150, Federal Workforce Transportation. To date, for instance, TRANServe has shifted to electronic fare media in specific areas in New York, parts of the National Capitol Region, and parts of the Southeast. TRANServe intends to implement electronic fare media across the United States within the eight identified TRANServe areas. The eight Geographic TRANServe Service Areas are segmented based on TRANServe participant population and natural Transit Authority boundaries. The eight TRANServe Geographic Service Areas are as follows:

Service Area 1—Washington, DC, Maryland, and Virginia.

Service Area 2—(Southeast)—Tennessee, North Carolina, South Carolina, Georgia, Florida, Alabama, and Louisiana.

Service Area 3—(Upper Midwest)—Minnesota, Wisconsin, Michigan, Illinois, Indiana, Ohio, West Virginia, Kentucky, Virgin Islands, and Puerto Rico.

Service Area 4—(Pacific Northwest)—Washington, Oregon, Alaska, Idaho, Montana, North Dakota, South Dakota, Wyoming, and Nebraska.

Service Area 5—(Northeast)—Maine, Massachusetts, Vermont, New York, Rhode Island, New Hampshire, Connecticut, New Jersey, Pennsylvania, and Delaware.

Service Area 6—California.

Service Area 7—(Southwest-HI)—Hawaii, Nevada, Arizona, New Mexico, Utah, and Colorado.

Service Area 8—(Upper TX—Lower Midwest)—Texas, Missouri, Arkansas, Iowa, Louisiana, Kansas, and Oklahoma.

Public Comments: Persons wishing to offer written comments and suggestions concerning the activities of TRANServe's distribution method should file comments in the Public Docket (Docket Number DOT-OST-2012-0046) at www.Regulations.gov.

Issued in Washington, DC, on March 26, 2012.
Marie Petrosino-Woolverton,
Director, Office of Financial Management & Transportation Services.

[FR Doc. 2012-7804 Filed 3-30-12; 8:45 am]

BILLING CODE 4910-9X-P